FARM CREDIT ADMINISTRATION

12 CFR Parts 611 and 615

[Docket No. 2018-12366]

RIN 3052-AC84

Organization; Funding and Fiscal Affairs, Loan Policies and Operations, and Funding Operations; Investment Eligibility; Correction

AGENCY: Farm Credit Administration.

ACTION: Final rule; correction.

SUMMARY: The Farm Credit Administration (FCA or our) is correcting a final rule that appeared in the Federal Register on June 12, 2019 that amends our regulations governing investments of both Farm Credit System (FCS) banks and associations. The final rule strengthens eligibility criteria for investments that FCS banks purchase and hold, and implements section 939A of the Dodd-Frank Wall Street Reform and Consumer Protection Act by removing references to and requirements for credit ratings and substituting other appropriate standards of creditworthiness. The final rule revises FCA's regulatory approach to investments by FCS associations by limiting the type and amount of investments that an association may hold for risk management purposes.

DATES: This correction shall become effective on January 1, 2019.

FOR FURTHER INFORMATION CONTACT:

David J. Lewandrowski, Senior Policy Analyst, Office of Regulatory Policy, (703) 883-4212, TTY (703) 883-4056, lewandrowskid@fca.gov;

J.C. Floyd, Associate Director of Finance and Capital Market Team, Office of Regulatory Policy, (703) 883-4321, TTY (703) 883-4056, floydjc@fca.gov; or

Richard A. Katz, Senior Counsel, Office of General Counsel, (703) 883-4020, TTY (703) 883-4056, katzr@fca.gov.

SUPPLEMENTARY INFORMATION: In FR Doc. 2018-12366 appearing on page 27486 in the Federal Register of Tuesday, June 12, 2018, the following corrections are made:

§ 611.1153 [Corrected]

1. On page 27499, in the first column, in part 611, amendatory instruction 2 is removed.

§ 611.1155 [Corrected]

2. On page 27499, in the first column, in part 611, amendatory instruction 3 is removed.

§ 615.5133 [Corrected]

3. On page 27500, in the first column, in § 615.5133, in paragraph (b), in the fourth sentence, the word “banks” is corrected to read “bank's”.

§ 615.5140 [Corrected]

4. On page 27502, in the third column, in § 615.5140, in paragraph (b)(3)(i), in the first sentence, the reference “§ 615.5133(a), (b), (c), (d), and (e)” is corrected to read “§ 615.5133(a), (b), (c), (d), (e), (h), and (i).”

5. On page 27502, in the third column, in § 615.5140, in paragraph (b)(4)(ii), in the first sentence, the reference “§ 615.5132” is corrected to read “§ 615.5131”.

6. On page 27503, in the first column, in § 615.5140, in paragraph (b)(6)(ii), in the first sentence, the reference “paragraph (b)(3)” is corrected to read “paragraph (b)(4)”.

§ 615.5143 [Corrected]

7. On page 27503, in the second column, in § 615.5143, in paragraph (a)(2), the reference “§ 615.5140(b)(3)” is corrected to read “§ 615.5140(b)(4)”.

8. On page 27503, in the third column, in § 615.5143, in paragraph (b)(3), the reference “§ 615.5140(b)(3)” is corrected to read “§ 615.5140(b)(4)”.

Dated: June 26, 2018.
Dale L. Aultman,
Secretary, Farm Credit Administration Board.

[FR Doc. 2018-14107 Filed 6-29-18; 8:45 am]

BILLING CODE 6705-01-P